DEPARTMENT OF ENERGY

Federal Energy Regulatory Commission

[Docket No. ER01-2032-000, et al.]

Central Maine Power Company, et al.; Electric Rate and Corporate Regulation Filings

May 17, 2001.

Take notice that the following filings have been made with the Commission:

1. Central Maine Power Company

[Docket No. ER01-2032-000]

Take notice that on May 14, 2001, Central Maine Power Company (CMP) tendered for filing with the Federal Energy Regulatory Commission (Commission) an Interconnection Agreement describing the rates and non-rate terms of service that CMP is providing Calpine Construction Finance Company, L.P. (Calpine) at its facility in Westbrook, Maine.

CMP requests an effective date of April 12, 2001. In addition, CMP asks that the Commission resolve certain identified issues that CMP and Calpine were unable to agree upon during negotiations.

Comment date: June 4, 2001, in accordance with Standard Paragraph E at the end of this notice.

2. Duke Energy Corporation

[Docket No. ER01-2036-000]

Take notice that on May 14, 2001, Duke Energy Corporation (Duke) tendered for filing a Service Agreement with Constellation Power Source, Inc. for Firm Point to Point Transmission Service under Duke's Open Access Transmission Tariff.

Duke requests that the proposed Service Agreement be permitted to become effective on May 4, 2001.

Duke states that this filing is in accordance with Part 35 of the Commission's Regulations and a copy has been served on the North Carolina Utilities Commission.

Comment date: June 4, 2001, in accordance with Standard Paragraph E at the end of this notice.

3. The Montana Power Company

[Docket No. ER01-2037-000]

Take notice that on May 14, 2001, The Montana Power Company (Montana) tendered for filing with the Federal Energy Regulatory Commission pursuant to 18 C.F.R. § 35.13 executed Long-term Firm Point-To-Point Transmission Service Agreements with Powerex under Montana's FERC Electric Tariff, Fourth Revised Volume No. 5 (Open Access Transmission Tariff).

A copy of the filing was served upon the Powerex.

Comment date: June 4, 2001, in accordance with Standard Paragraph E at the end of this notice.

4. Northern Indiana Public Service Company

[Docket No. ER01-2038-000]

Take notice that on May 14, 2001, Northern Indiana Public Service Company tendered for filing an executed Standard Transmission Service Agreement for Firm Point-to-Point Transmission Service between Northern Indiana Public Service Company and Northern Indiana Public Service Company (Energy Services).

Under the Transmission Service Agreement, Northern Indiana Public Service Company will provide Firm Point-to-Point Transmission Service to Energy Services pursuant to the Transmission Service Tariff filed by Northern Indiana Public Service Company in Docket No. OA96-47-000 and allowed to become effective by the Commission. Northern Indiana Public Service Company has requested that the Service Agreement be allowed to become effective as of June 1, 2001.

Copies of this filing have been sent to Northern Indiana Public Service Company, the Indiana Utility Regulatory Commission, and the Indiana Office of Utility Consumer Counselor.

Comment date: June 4, 2001, in accordance with Standard Paragraph E at the end of this notice.

5. New England Power Pool

[Docket No. ER01-2039-000]

Take notice that on May 14, 2001, the New England Power Pool (NEPOOL) tendered for filing conforming changes to Section 8.4.2 of NEPOOL Market Rule 8 necessary to eliminate provisions that conflict with net commitment period compensation. A July 1, 2001 effective date is requested.

NEPOOL states that copies of these materials were sent to the NEPOOL Participants and the six New England state governors and regulatory commissions.

Comment date: June 4, 2001, in accordance with Standard Paragraph E at the end of this notice.

6. Michigan Electric Transmission Company

[Docket No. ER01-2040-000]

Take notice that on May 14, 2001, Michigan Electric Transmission Company (Michigan Transco) tendered for filing executed Service Agreements for Firm and Non-Firm Point-to-Point Transmission Service with Exelon Generation Company, LLC (Exelon) and Williams Energy Marketing & Trading Company (Williams) pursuant to the Joint Open Access Transmission Service Tariff filed on February 22, 2001 by Michigan Transco and International Transmission Company (ITC).

Michigan Transco is requesting an effective dates of April 24, 2001 for the Exelon Agreements and May 3, 2001 for the Williams Agreements.

Copies of the filed agreement were served upon the Michigan Public Service Commission, ITC, Exelon and Williams.

Comment date: June 4, 2001, in accordance with Standard Paragraph E at the end of this notice.

7. Michigan Electric Transmission Company

[Docket No. ER01-2041-000]

Take notice that on May 14, 2001, Michigan Electric Transmission Company (Michigan Transco) tendered for filing executed Service Agreements for Firm and Non-Firm Point-to-Point Transmission Service with FirstEnergy Services Corp. (Customer) pursuant to the Joint Open Access Transmission Service Tariff filed on February 22, 2001 by Michigan Transco and International Transmission Company (ITC).

Michigan Transco is requesting an effective date of April 27, 2001 for the Agreements.

Copies of the filed agreements were served upon the Michigan Public Service Commission, ITC, and the Customer.

Comment date: June 4, 2001, in accordance with Standard Paragraph E at the end of this notice.

8. Sierra Pacific Power Company, Nevada Power Company

[Docket No. ER01-2042-000]

Take notice that on May 14, 2001, Sierra Pacific Power Company and Nevada Power Company (jointly Operating Companies) tendered for filing Service Agreements (Service Agreements) with the following entities for Non-Firm and/or Short-Term Firm Point-to-Point Transmission Service under Sierra Pacific Resources Operating Companies FERC Electric Tariff, First Revised Volume No. 1, Open Access Transmission Tariff (Tariff):

1. Aquila Energy Marketing Corporation (Short-Term)

2. Sempra Energy Trading Corporation (Short-Term)

3. Colorado River Commission (Short-Term and Non-Firm)

4. Portland General Electric (Short-Term and Non-Firm)

5. Calpine Energy Services, L.P. (Short-Term and Non-Firm)

The Operating Companies are filing the executed Service Agreements with the Commission in compliance with Sections 13.4 and 14.4 of the Tariff and applicable Commission regulations. The Operating Companies also submitted revised Sheet Nos. 195, 195A and 196 (Attachment E) to the Tariff, which is an updated list of all current subscribers. The Operating Companies request waiver of the Commission's notice requirements to permit an effective date of May 15, 2001 for Attachment E, and to allow the Service Agreements to become effective according to their terms.

Copies of this filing were served upon the Public Utilities Commission of Nevada, the Public Utilities Commission of California and all interested parties.

Comment date: June 4, 2001, in accordance with Standard Paragraph E at the end of this notice.

9. New England Power Company

[Docket No. ER01-2043-000]

Take notice that on May 14, 2001, New England Power Company (NEP) tendered for filing a service agreement between NEP and NRG Power Marketing Inc. (NRG) for Non-Firm Point-To-Point Transmission Service under NEP's FERC Electric Tariff, Second Revised Volume No. 9.

Copies of the filing have been served upon NRG and the Minnesota Public Utilities Commission.

Comment date: June 4, 2001, in accordance with Standard Paragraph E at the end of this notice.

10. Southwest Reserve Sharing Group

[Docket No. ER98-917-002]

Take notice that on May 14, 2001, the Southwest Reserve Sharing Group (SRSG) tendered for filing its compliance filing in accordance with orders issued by the Commission on June 25, 1998 and April 13, 2001, Southwest Reserve Sharing Group, 83 FERC ¶ 61,314 (1998), and Southwest Reserve Sharing Group, 95 FERC ¶ 61,0741 (Apr. 13, 2001).

Comment date: June 4, 2001, in accordance with Standard Paragraph E at the end of this notice.

11. North Atlantic Energy Corporation

[Docket No. ER01-1757-001]

Take Notice that on May 14, 2001, Public Service Company of New Hampshire (Public Service), tendered for filing with the Commission revised signature pages to North Atlantic Energy Corporation's FERC Rate Schedules Nos. 1 and 3. On March 29, 2001, North Atlantic Energy Corporation (North Atlantic) had filed revised signature pages for incorporating the State of New Hampshire's consent to the changes in the North Atlantic Rate Schedules, acting through the Office of Attorney General for the State of New Hampshire. Subsequent to that filing, the Staff of the Commission requested North Atlantic to refile those signature pages with corrected pagination and changing the effective date of the Revised Rate Schedules from April 1, 2001 to May 1, 2001.

Copies of this filing were served upon the Office of the Attorney General for the State of New Hampshire, and the Executive Director and Secretary of the New Hampshire Public Utilities Commission.

Comment date: June 4, 2001, in accordance with Standard Paragraph E at the end of this notice.

12. Florida Power Corporation

[Docket Nos. ER01-1441-001 and OA96-73-005]

Take notice that on May 14, 2001, Florida Power Corporation (FPC) tendered for filing a refund report in compliance with the Commission's order dated April 12, 2001 in Docket Nos. ER01-1441-000 and OA96-73-004, Florida Power Corporation, 95 FERC ¶ 61,042. The Commission's order accepted the settlement agreement filed by FPC on February 28, 2001.

Copies of the filing were served upon (i) every participant in accordance with Rule 2010; and (ii) any person required by the Commission's rules to be served with the pleading or tariff or rate schedule filing, with respect to which the proceeding was initiated, in accordance with the requirements of Rule 602(d)(1) of the Commission's Rules of Practice and Procedure.

Comment date: June 4, 2001, in accordance with Standard Paragraph E at the end of this notice.

13. Southern Company Service, Inc.

[Docket No. ER01-1380-001]

Take notice that on May 14, 2001, Southern Company Services, Inc., acting as agent for Alabama Power Company, Georgia Power Company, Gulf Power Company, Mississippi Power Company, Savannah Electric and Power Company and Southern Power Company (collectively referred to as the Operating Companies), in compliance with an Order of the Commission dated April 27, 2001, tendered for filing new designations for the Operating Companies' Market Based Rate Power Sales Tariff (Market Rate Tariff).

The sole purpose of this filing is to change the designation appearing on the Market Rate Tariff from First Revised Volume No. 4 to Second Revised Volume No. 4.

Comment date: June 4, 2001, in accordance with Standard Paragraph E at the end of this notice.

14. Idaho Power Company, IDACORP Energy Solutions, LP

[Docket No. ER01-1329-001]

Take notice that on May 14, 2001, Idaho Power Company (IPC) and IDACORP Energy Solutions, LP tendered for filing their compliance filing with the Commission's April 27, 2001 order in this proceeding.

Comment date: June 4, 2001, in accordance with Standard Paragraph E at the end of this notice.

15. NRG Energy, Inc., Indeck Energy Services, Inc., Indeck Energy Services of Ilion, Inc., Indeck Ilion Cogeneration Corporation

[Docket No. EC01-96-000]

Take notice that on May 7, 2001, NRG Energy, Inc. (NRG), Indeck Energy Services, Inc. (Indeck), Indeck Energy Services of Ilion, Inc. (Indeck Ilion), and Indeck Ilion Cogeneration Corporation (Indeck Cogen) filed with the Federal Energy Regulatory Commission a joint application pursuant to Section 203 of the Federal Power Act and Part 33 of the Federal Energy Regulatory Commission's (Commission) regulations requesting authorization for disposition of jurisdictional facilities whereby Indeck, Indeck Ilion, and Indeck Cogen will transfer to NRG for cash and subject to certain purchase price adjustments at closing, all of the member and partnership interests of Indeck, Indeck Ilion, and Indeck Cogen in four generation projects under development or currently in operation. Specifically, NRG intends, as a result of the proposed transaction, to acquire ownership interests in two facilities, one operating 300 MW generating plant and one 150 MW generating plant under development, both located in Rockford, Illinois. NRG also intends to acquire in the proposed transaction two additional projects, one 58 MW generating plaint in operation in Ilion, New York and one 1,000 MW generating plant under development in Bourbonnais, Illinois. The joint applicants are requesting, pursuant to 18 CFR 388.112, privileged and confidential treatment of the information contained in Exhibits C and I to the joint application as certain of the documents contained therein contains information of a commercially sensitive nature.

Comment date: July 6, 2001, in accordance with Standard Paragraph E at the end of this notice.

16. Energy East Corporation and RGS Energy Group, Inc.

[Docket No. EC01-97-000]

Take notice that on May 9, 2001, Energy East Corporation (Energy East) and RGS Energy Group, Inc. (RGS Group) filed with the Federal Energy Regulatory Commission, on behalf of their jurisdictional subsidiaries, a joint application pursuant to section 203 of the Federal Power Act for authorization of the disposition of jurisdictional facilities resulting from the transaction between Energy East and RGS Group pursuant to an “Agreement and Plan of Merger” dated February 16, 2001, by and among Energy East, RGS Group and Eagle Merger Corp. (Eagle).

Energy East will acquire 100 percent of the common stock of RGS Group. RGS Group will merge with and into Eagle, which will be a wholly owned subsidiary of Energy East at the effective time of the merger. Eagle will survive the merger as New RGS and will continue to conduct RGS Group's businesses under the name RGS Energy Group, Inc. as a direct, wholly owned subsidiary of Energy East. As soon as practicable after the merger, Energy East will transfer all of NYSEG's common stock to New RGS, so that NYSEG and RG&E can be operated under a combined management structure.

Comment date: July 6, 2001, in accordance with Standard Paragraph E at the end of this notice.

17. Southwest Transmission Electric Power Cooperative

[Docket No. NJ01-05-000]

Take notice that on March 30, 2001, Southwest Transmission Electric Power Cooperative filed its Standards of Conduct.

Comment date: June 18, 2001, in accordance with Standard Paragraph E at the end of this notice.

18. Basin Electric Power Cooperative, Inc.

[Docket No. NJ01-6-000]

Take notice that on May 14, 2001, Basin Electric Power Cooperative, Inc. (Basin Electric) tendered for filing with the Federal Energy Regulatory Commission (Commission), a Petition for Declaratory Order and revisions to its Open Access Transmission Service, Schedule Nos. 7 and 8, respectively, and increase the Annual Revenue Requirement, Attachment H.

Copies of the filing were served upon Basin Electric's transmission customers.

Comment date: June 13, 2001, in accordance with Standard Paragraph E at the end of this notice.

19. Ameren Corporation on Behalf of: Union Electric Company, Central Illinois Public Service Company; American Electric Power Service Corporation on Behalf of: Appalachian Power Company, Columbus Southern Power Company, Indiana Michigan Power Company, Kentucky Power Company, Kingsport Power Company, Ohio Power Company, Wheeling Power Company; Consumers Energy and Michigan Electric Transmission Company; Detroit Edison Company and International Transmission Company; Exelon Corporation on Behalf of: Commonwealth Edison Company, Commonwealth Edison Company of Indiana, Inc.; FirstEnergy Corp. on Behalf of: American Transmission Systems, Inc., The Cleveland Electric Illuminating Company, Ohio Edison Company, Pennsylvania Power Company, The Toledo Edison Company, Illinois Power Company, Northern Indiana Public Service Company, The Dayton Power and Light Company, Virginia Electric and Power Company

[Docket No. RT01-88-001]

Take notice that on May 15, 2000, the Alliance Companies (Ameren Corporation (on behalf of Union Electric Company and Central Illinois Public Service Company), American Electric Power Service Corporation (on behalf of Appalachian Power Company, Indiana Michigan Power Company, Kentucky Power Company, Kingsport Power Company, Ohio Power Company and Wheeling Power Company), Consumers Energy Company (and Michigan Electric Transmission Company), Exelon Corporation (on behalf of Commonwealth Edison Company and Commonwealth Edison Company of Indiana, Inc.), The Detroit Edison Company (on International Transmission Company), FirstEnergy Corp. (on behalf of American Transmission Systems, Inc., The Cleveland Electric Illuminating Company, Ohio Edison Company, Pennsylvania Power Company and The Toledo Edison Company), Illinois Power Company, Northern Indiana Public Service Company, The Dayton Power and Light Company, and Virginia Electric and Power Company) submitted a supplemental compliance filing in this proceeding which constitutes compliance with the non-rate compliance matters from the Federal Energy Regulatory Commission's January 24, 2001 Order in Docket Nos. ER99-3144-000 and EC99-80-000, contains a Section 203 request for the transfer of control of jurisdictional facilities on behalf of Northern Indiana Public Service Company (NIPSCo), identifies new transmission-operating subsidiaries for two of the companies, provides additional details for the proposed energy imbalance service, and contains other minor supplements to the initial filing submitted in this proceeding on January 16, 2001.

Comment date: June 18, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13215 Filed 5-24-01; 8:45 am]

BILLING CODE 6717-01-P